DEPARTMENT OF LABOR

Employment and Training Administration

[TA-W-81,287]

American Woodmark Corporation, Moorefield, WV; Notice of Affirmative Determination Regarding Application for Reconsideration

By application dated March 26, 2012, a representative of the United Brotherhood of Carpenters and Joiners of America, Local Union 2101, requested administrative reconsideration of the negative determination regarding workers' eligibility to apply for Trade Adjustment Assistance applicable to workers of the subject firm. The determination was issued on March 9, 2012 and the Department's Notice of Determination was published in the Federal Register on March 26, 2012 (77 FR 17528). The workers produce kitchen and bathroom cabinetry components.

The initial investigation resulted in a negative determination based on the findings that there was no shift in the production of articles like or directly competitive with the kitchen and bathroom cabinetry components produced by the subject firm nor were there increased subject firm or customer imports of articles like or directly competitive with those produced by the subject firm.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 21st day of May, 2012.
Del Min Amy Chen,
Certifying Officer, Office of Trade Adjustment Assistance.

[FR Doc. 2012-13589 Filed 6-5-12; 8:45 am]

BILLING CODE 4510-FN-P